OCCUPATIONAL SAFETY AND HEALTH REVIEW COMMISSION

Sunshine Act Meetings

TIMES AND DATE: 9:30 a.m. and 11:00 a.m. on Thursday, June 7, 2018.

PLACE: The Commission's National Office at One Lafayette Centre, 1120 20th Street NW, 9th Floor, Washington, DC 20036-3457.

STATUS: The oral arguments will be open to the public.

MATTERS TO BE CONSIDERED: At 9:30 a.m., the Commission will be hearing oral argument in the case of Secretary of Labor v. A.H. Sturgill Roofing, Inc., Docket No. 13-0224. At 11:00 a.m., the Commission will be hearing oral argument in the case of Secretary of Labor v. Integra Health Management, Inc., Docket No 13-1124.

CONTACT PERSON FOR MORE INFORMATION: John X. Cerveny, Executive Secretary, (202) 606-5400.

John X. Cerveny,
Executive Secretary.

[FR Doc. 2018-11564 Filed 5-24-18; 4:15 pm]

BILLING CODE 7600-01-P